DEPARTMENT OF ENERGY

Federal Energy Regulatory Commission

[Docket Nos. ER00-3232-001; ER01-296-000]

Southern Company Services, Inc.; Notice of Filing

November 8, 2000.

Take notice that on October 30, 2000, Southern Company Services, Inc. (SCS) on behalf of Alabama Power, Georgia Power Company, Gulf Power Company, Mississippi Power Company and Savannah Electric and Power Company (Southern Companies), made a compliance filing pursuant to a Letter Order issued September 13, 2000 in Docket No. ER00-3232 by filing rate schedule designations as required by Order No. 614. As part of this filing, SCS also tendered for filing a Notice of Cancellation of the following rate schedules:

1. The Interchange Service Contract dated February 9, 1996 by and between Western Gas Resources Power Marketing, Inc., Southern Companies, and SCS (FERC Rate Schedule—Southern Operating Cos. No. 88).

2. The Interchange Service Contract dated November 3, 1995 by and between Koch Power Services, Inc., Southern Companies, and SCS (FERC Rate Schedule—Southern Operating Cos. No. 82).

3. The Interchange Service Contract dated February 9, 1996 by and between Intercoast Power Marketing Company, Southern companies, and SCS (FERC Rate Schedule—Southern Operating Cos. No. 90).

These service schedules set forth the general terms and conditions governing transactions for the sale capacity and/or energy by Southern Companies. These rate schedules have been canceled because the parties to each referenced contract have agreed that Southern Companies will no longer provide capacity and/or energy pursuant to such contracts.

Any person desiring to be heard or to protest such filing should file a motion to intervene or protest with the Federal Energy Regulatory Commission, 888 First Street, NE., Washington, DC, 20426, in accordance with Rules 211 and 214 of the Commission's Rules of Practice and Procedure (18 CFR 385.211 and 385.214). All such motions and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the Internet in lieu of paper. See, 18 CFR 385.2001(a)(1)(iii) and the instructions on the Commission's web site at http://www.ferc.fed.us/efi/doorbell.htm.

Linwood A. Watson, Jr.,
Acting Secretary.

[FR Doc. 00-29201 Filed 11-14-00; 8:45 am]

BILLING CODE 6717-01-M